DEPARTMENT OF COMMERCE

National Oceanic and Atmospheric Administration

50 CFR Part 635

[Docket No. 090508897-91141-02]

RIN 0648-AX85

Atlantic Highly Migratory Species; Atlantic Bluefin Tuna Season and Retention Limit Adjustments

AGENCY: National Marine Fisheries Service (NMFS), National Oceanic and Atmospheric Administration (NOAA), Commerce.

ACTION: Proposed rule; extension of comment period.

SUMMARY: On November 4, 2009, NMFS published a proposed rule to increase the Atlantic bluefin tuna (BFT) General category maximum daily retention limit; allow the General category season to remain open until the January subquota is reached; and increase the Harpoon category daily incidental retention limit. The proposed rule is intended to more thoroughly utilize available U.S. BFT quota, particularly for the General and Harpoon (commercial handgear) categories. In the proposed rule, NMFS announced the end of the comment period as December 21, 2009, which would allow an approximately 45-day comment period. In order to provide additional opportunities for the public and other interested parties to comment on the proposed rule, NMFS is extending the comment period for this action until March 31, 2010. Comments received by NMFS on the proposed rule will help NMFS determine whether and how to implement final management measures for the BFT General and Harpoon categories as described in the proposed action.

DATES: The deadline for comments on the BFT rule regarding the General and Harpoon categories has been extended from December 21, 2009, as published on November 4, 2009 (74 FR 57128), to March 31, 2010.

ADDRESSES: As published on November 4, 2009 (74 FR 57128), you may submit comments, identified by “0648-AX85”, by any one of the following methods:

* Electronic Submissions: Submit all electronic public comments via the Federal eRulemaking Portal http://www.regulations.gov

* Fax: 978-281-9340, Attn: Sarah McLaughlin

* Mail: Sarah McLaughlin, Highly Migratory Species Management Division, Office of Sustainable Fisheries (F/SF1), NMFS, 55 Great Republic Drive, Gloucester, MA 01930

Instructions: All comments received are a part of the public record and will generally be posted to Portal http://www.regulations.gov without change. All Personal Identifying Information (for example, name, address, etc.) voluntarily submitted by the commenter may be publicly accessible. Do not submit Confidential Business Information or otherwise sensitive or protected information.

NMFS will accept anonymous comments (enter “n/a” in the required fields if you wish to remain anonymous). Attachments to electronic comments will be accepted in Microsoft Word, Excel, WordPerfect, or Adobe PDF file formats only.

Supporting documents including the draft Environmental Assessment (EA), Regulatory Impact Review (RIR), and Initial Regulatory Flexibility Analysis (IRFA) for this action are available from the Highly Migratory Species Management Division Web site at http://www.nmfs.noaa.gov/sfa/hms or by sending your request to Sarah McLaughlin at the mailing address specified above.

FOR FURTHER INFORMATION CONTACT: Sarah McLaughlin, 978-281-9260.

SUPPLEMENTARY INFORMATION: Atlantic tunas are managed under the dual authority of the Magnuson-Stevens Fishery Conservation and Management Act (Magnuson-Stevens Act) and the Atlantic Tunas Convention Act (ATCA). ATCA authorizes the Secretary of Commerce (Secretary) to promulgate regulations, as may be necessary and appropriate, to implement recommendations of the International Commission for the Conservation of Atlantic Tunas (ICCAT). The authority to issue regulations under the Magnuson-Stevens Act and ATCA has been delegated from the Secretary to the Assistant Administrator for Fisheries, NOAA (AA). The provisions of the 2006 Consolidated Atlantic Highly Migratory Species Fishery Management Plan (Consolidated HMS FMP) are implemented by regulations at 50 CFR part 635.

On November 4, 2009 (74 FR 57128), NMFS published the proposed rule regarding three potential actions for the BFT commercial handgear fisheries to more thoroughly utilize available U.S. BFT quota, while ending BFT overfishing, rebuilding the BFT stock by 2019, and minimizing bycatch and bycatch mortality to the extent practicable.

First, for the General category, NMFS would increase the maximum daily retention limit from three fish to five fish per vessel, such that NMFS could increase or decrease the daily retention limit of large medium and giant BFT (measuring 73 inches (185 cm) or greater) over a range from zero to a maximum of five per vessel via an inseason action based on the determination criteria and other relevant factors provided under § 635.27(a)(8).

Second, NMFS would allow the General category to remain open at the beginning of the calendar year until the January subquota is determined to be fully harvested. To effect this change, NMFS would adjust the BFT quota regulation that specifies the time period for which the first General category subquota is available, such that the period that begins January 1 would end upon the effective date of a closure notice that NMFS would file with the Office of the Federal Register when the quota apportioned to the period that begins January 1 is projected to be reached, or May 31, whichever comes first.

Third, for the Harpoon category, NMFS would increase the daily incidental retention limit of large medium BFT (measuring 73 inches to less than 81 inches (205 cm)) from two fish to four fish per vessel).

In the proposed rule, NMFS announced the end of the comment period as December 21, 2009. NMFS has received several comments requesting a 90-day extension of the comment period. NMFS has also received comment from fishery participants that final action should be taken on this proposed action as soon as possible to allow any final actions selected to be implemented for the 2010 General and Harpoon category fisheries. NMFS has determined that it is reasonable to extend the comment period to allow additional opportunities for public comment, and is extending the comment period until March 31, 2010. This revised comment period end date should allow sufficient time for any final actions selected to be effective prior to the June 1, 2010, resumption of the General category season and the start of the Harpoon category season. These comments will assist NMFS in determining final management measures to conserve and manage the BFT resource and fisheries, consistent with the Magnuson-Stevens Act, ATCA, and the 2006 Consolidated HMS FMP.

Authority: 16 U.S.C. 971 et seq.; 16 U.S.C. 1801 et seq.

Dated: December 18, 2009.
Jim Balsiger,
Acting Assistant Administrator for Fisheries, National Marine Fisheries Service.

[FR Doc. E9-30567 Filed 12-21-09; 11:15 am]

BILLING CODE 3510-22-P